DEPARTMENT OF ENERGY

Federal Energy Regulatory Commission

Sunshine Act Meeting Notice

July 10, 2014.

The following notice of meeting is published pursuant to section 3(a) of the government in the Sunshine Act (Pub. L. No. 94-409), 5 U.S.C. 552b:

Agency Holding Meeting:

Date and Time: July 17, 2014, 10:00 a.m.

Place: Room 2C, 888 First Street NE., Washington, DC 20426.

Status: Open.

Matters to be Considered: Agenda. * Note—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1007th—Meeting
Item No. | Docket No. | Company
Administrative
A-1 | AD02-1-000 | Agency Business Matters.
A-2 | AD02-7-000 | Customer Matters, Reliability, Security and Market Operations.
Electric
E-1 | ER13-102-001 ER13-102-002 | New York Independent System Operator, Inc.
E-2 | EL14-73-000 | The Empire District Electric Company.
E-3 | EL14-76-000 | Louisville Gas and Electric Company and Kentucky Utilities Company.
E-4 | EL14-72-000 | UNS Electric, Inc.
E-5 | EL14-77-000 | Westar Energy, Inc.
E-6 | EL14-74-000 EL14-75-000 | Kansas City Power & Light Company. KCP&L Greater Missouri Operations Company.
E-7 | EL14-71-000 | Black Hills Power, Inc.
E-8 | RM14-15-000 | Physical Security Reliability Standard.
E-9 | RM14-8-000 | Protection System Maintenance Reliability Standard.
E-10 | RM13-19-000 RM14-3-000 | Generator Relay Loadability and Revised Transmission Relay Loadability Reliability Standards.
E-11 | PL14-1-000 | Payment of Dividends from Funds Included in Capital Account.
E-12 | ER14-1175-001 | Southwest Power Pool, Inc.
E-13 | EL14-38-000 | Sunflower Electric Power Corporation v. Kansas Municipal Energy Agency and Southwest Power Pool, Inc.
E-14 | ER14-480-001 | California Independent System Operator Corporation.
Gas
G-1 | RM14-21-000 | Natural Gas Act Pipeline Maps.
G-2 | RP14-728-000 RP14-773-000 | El Paso Natural Gas Company, L.L.C. City of Las Cruces, New Mexico; City of Mesa, Arizona; ConocoPhillips Company; Freeport-McMoRan Corporation; Navajo Tribal Utility Authority; New Mexico Gas Company, Inc. and Southwest Gas Corporation v. El Paso Natural Gas Company, L.L.C. (Not Consolidated).
G-3 | RP12-455-002 RP12-455-003 | Panhandle Eastern Pipe Line Company, LP.
Hydro
H-1 | RM14-20-000 | Format and Dimensions of Maps and Drawings Required by the Commission's Hydropower Program.
H-2 | P-2210-244 | Appalachian Power Company.
H-3 | P-12532-005 | Pine Creek Mine, LLC.
H-4 | P-7019-061 | Eastern Hydroelectric Corporation.
Certificates
C-1 | CP14-132-000 | Gulf Oil Limited Partnership.

Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-16658 Filed 7-11-14; 11:15 am]

BILLING CODE 6717-01-P